DEPARTMENT OF JUSTICE

Drug Enforcement Administration

Importer of Controlled Substances; Notice of Registration

Correction

In notice document 2010-6412 beginning on page 14186 in the issue of Wednesday, March 24, 2010, make the following correction:

On page 14186, in the third column, in the table, the last cell, “III” should read “II”.

[FR Doc. C1-2010-6412 Filed X-XX-08; 8:45 am]

BILLING CODE 1505-01-D